DEPARTMENT OF HEALTH AND HUMAN SERVICES

Centers for Disease Control and Prevention

CDC/HRSA Advisory Committee on HIV and STD Prevention and Treatment: Notice of Charter Renewal

This gives notice under the Federal Advisory Committee Act (Pub. L. 92-463) of October 6, 1972, that the CDC/HRSA Advisory Committee on HIV and STD Prevention and Treatment Centers for Disease Control and Prevention, Department of Health and Human Services, has been renewed for a 2-year period through November 25, 2008.

For information, contact Kevin Fenton, M.D., Ph.D., Executive Secretary, CDC/HRSA Advisory Committee on HIV and STD Prevention and Treatment, Centers for Disease Control and Prevention, Department of Health and Human Services, 1600 Clifton Road, NE., Mailstop E07, Atlanta, Georgia 30333, telephone 404/639-8000 or fax 404/639-8600.

The Director, Management Analysis and Services Office, has been delegated the authority to sign Federal Register notices pertaining to announcements of meetings and other committee management activities, for both the Centers for Disease Control and Prevention and the Agency for Toxic Substances and Disease Registry.

Dated: December 1, 2006.
Alvin Hall,
Director, Management Analysis and Services Office Centers for Disease Control and Prevention.

[FR Doc. E6-20853 Filed 12-7-06; 8:45 am]

BILLING CODE 4163-18-P